FEDERAL COMMUNICATIONS COMMISSION

Deletion of Item From Sunshine Act Meeting

August 1, 2018.

The following item has been deleted from the list of items scheduled for consideration at the Thursday, August 2, 2018, Open Meeting and previously listed in the Commission's Notice of July 26, 2018.

7 | OFFICE OF MANAGING DIRECTOR | Title: Office of Managing Director Personnel Action #75.
|  | Summary: The Commission will consider a personnel action.

Federal Communications Commission.
Marlene Dortch,
Secretary.

[FR Doc. 2018-16896 Filed 8-3-18; 11:15 am]

BILLING CODE 6712-01-P